DEPARTMENT OF JUSTICE

[OMB Number 1117-0053]

Agency Information Collection Activities; Proposed eCollection eComments Requested; Reinstatement of a Previously Approved Collection; Leadership Engagement Survey

AGENCY: Drug Enforcement Administration, Department of Justice.

ACTION: 60-Day notice.

SUMMARY: The Drug Enforcement Administration, Department of Justice (DOJ), will be submitting the following information collection request to the Office of Management and Budget (OMB) for review and approval in accordance with the Paperwork Reduction Act of 1995.

DATES: Comments are encouraged and will be accepted for 60 days until February 20, 2024.

FOR FURTHER INFORMATION CONTACT: If you have additional comments especially on the estimated public burden or associated response time, suggestions, or need a copy of the proposed information collection instrument with instructions or additional information, please contact Tammie S. Pugh, Office of Research and Analysis, Drug Enforcement Administration, 8701 Morrissette Drive, Springfield, VA 22152, Telephone 571-776-2496, Tammie.S.Pugh@dea.gov.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: The DEA Leadership Engagement Survey (LES) is an initiative mandated by the Administrator of the Drug Enforcement Administration to improve the competencies and proficiency of leadership across the DEA,

Overview of This Information Collection

1. Type of Information Collection: Reinstatement of a previously approved collection.

2. The Title of the Form/Collection: DEA Annual Leadership Engagement Survey.

3. The agency form number, if any, and the applicable component of the Department sponsoring the collection: There is not a form number for this collection. It is an online survey. The applicable within the Department of Justice is the Drug Enforcement Administration, Human Resources Division.

4. Affected public who will be asked or required to respond, as well as the obligation to respond: Affected Public: Federal Government (Contractors, and Task Force Officers (TFOs)). The obligation to respond is mandatory per 5 U.S.C. part II.

5. An estimate of the total number of respondents and the amount of time estimated for an average respondent to respond: It is estimated that 2,600 Federal employees and 2,400 Contractors will take 20 minutes to complete the survey.

6. An estimate of the total annual burden (in hours) associated with the collection: The total annual burden hours for this collection is 1,667 hours.

7. An estimate of the total annual cost burden associated with the collection, if applicable: $0.

Activity | Number of respondents | Frequency | Total annual responses | Time per response (minutes) | Total annual burden (hours)
Task Force Officers | 2,600 | 1/annually | 2,600 | 20 | 867
Contractors | 2,400 | 1/annually | 2,400 | 20 | 800
Unduplicated Totals | 5,000 |  | 5,000 |  | 1,667

If additional information is required contact: Darwin Arceo, Department Clearance Officer, United States Department of Justice, Justice Management Division, Policy and Planning Staff, Two Constitution Square, 145 N Street NE, 4W-218, Washington, DC.

Dated: December 19, 2023.
Darwin Arceo,
Department Clearance Officer for PRA, U.S. Department of Justice.

[FR Doc. 2023-28286 Filed 12-21-23; 8:45 am]

BILLING CODE 4410-09-P